DEPARTMENT OF JUSTICE

Notice of Lodging of Settlement Agreement Pursuant to the Comprehensive Environmental Response, Compensation, and Liability Act of 1980, as Amended

Notice is hereby given that a proposed Settlement Agreement, with respect to a Proof of Claim filed by the United States in In re Irving Tanning Co., Case No. 01-10586 (Bankr. D. Me.), was lodged on December 17, 2002, with the United States Bankruptcy Court for the District of Maine. The proposed Settlement Agreement resolves claims of the United States against Irving Tanning Company (“Irving”) at the Peter Cooper Landfill Site located in the Village of Gowanda, New York and at the Peter Cooper (Markhams) Site located in Dayton, New York, under the Comprehensive Environmental Response, Compensation, and Liability Act (“CERCLA”), 42 U.S.C. 9601 et seq. The Settlement Agreement includes a covenant not to sue by the United States under sections 106 and 107 of CERCLA, 42 U.S.C. 9606 and 9607.

Under the proposed Settlement Agreement, the Proof of Claim filed by the United States on March 15, 2002, will be treated as an allowed unsecured claim in the amount of $140,000. The Settlement Agreement provides that this allowed claim will be paid in accordance with the treatment of Class 7 claims pursuant to the Plan of Reorganization approved by the Bankruptcy Court on August 13, 2002. The amount of the dividend to be paid with respect to this allowed claim will depend upon the total amount of allowed unsecured claims and the total amount of money available to the unsecured creditors.

The Department of Justice will receive, for a period of up to thirty days from the date of this publication, comments relating to the proposed Settlement Agreement. Any comments should be addressed to Donald G. Frankel, Trial Attorney, Environmental Enforcement Section, Environment and Natural Resources Division, U.S. Department of Justice, One Gateway Center, Suite 616, Newton, Massachusetts 02458 and should refer to In re Irving Tanning Co., D.J. Ref. #90-11-2-06887/3.

The proposed Settlement Agreement may be examined at EPA Region 2, 290 Broadway, New York, NY 10007-1866 (contact George Shanahan, 212-637-3171). A copy of the Settlement Agreement may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $2.50 (25 cents per page reproduction cost) payable to the U.S. Treasury.

Ronald G. Gluck,
Assistant Section Chief, Environmental Enforcement Section, Environment and Natural Resources Division.

[FR Doc. 02-33083 Filed 12-31-02; 8:45 am]

BILLING CODE 4410-15-M